FEDERAL COMMUNICATIONS COMMISSION

Notice of Public Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission (FCC) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees.

The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before March 17, 2014. If you anticipate that you will be submitting comments, but find it difficult to do so within the period of time allowed by this notice, you should advise the FCC contact listed below as soon as possible.

ADDRESSES: Submit your PRA comments to Leslie F. Smith, Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION: OMB Control Number: 3060-XXXX.

Title: Rates for Inmate Calling Services Data Collection.

Form Number: N/A.

Type of Review: New collection.

Respondents: Business or other for profit.

Number of Respondents and Responses: 25 respondents; 25 responses.

Estimated Time per Response: 70 hours.

Obligation to Respond: Required to obtain or maintain benefits.

Frequency of Response: One-time reporting requirement.

Total Annual Burden: 1,750 hours.

Total Annual Cost: $0.

Privacy Impact Assessment: No impacts.

Nature and Extent of Confidentiality: The Commission anticipates providing confidential treatment for proprietary information submitted by ICS providers. Parties that comply with the terms of a protective order for the proceeding will have an opportunity to comment on the data. The Commission is not requesting respondents to submit confidential information to the Commission. However, respondents may request materials or information submitted to the Commission be withheld from public inspection under 47 CFR Section 0.459 of the FCC's rules.

Needs and Uses: Section 201 of the Communications Act of 1934, (“Act”) as amended, 47 U.S.C. 201, requires that inmate calling service (ICS) providers' rates and practices be just and reasonable. Section 276 of the Act, 47 U.S.C. 276, requires that payphone service providers (including those that serve correctional institutions such as ICS providers) be fairly compensated. The Commission's Report and Order (R&O) and Further Notice of Proposed Rulemaking (FNPRM), Rates for Interstate Inmate Calling Services, WC Docket No. 12-375, FCC 13-113, required that all ICS providers comply with a one-time mandatory data collection. The Report and Order requires ICS providers to submit data on the costs of providing interstate, intrastate toll, and local ICS. Data required to be submitted include data on the costs of telecommunications service, interconnection fees, equipment investment, installation and maintenance, security, ancillary services, and other costs. Providers will also be required to provide certain related rate, demand, and forecast data. The data will be used to inform the Commission's evaluation of rate reform options in the FNPRM, to enable the Commission to transition from interim rate safe harbors and rate caps to permanent rate reform, and to enable the Commission to discharge its core responsibility of ensuring just, reasonable and fair rates as required by sections 201 and 276 by ensuring interstate ICS rates are cost-based.

OMB Control Number: 3060-XXXX.

Title: Inmate Calling Service Provider Annual Report and Certification.

Form Number: N/A.

Type of Review: New collection.

Respondents: Business or other for profit.

Number of Respondents and Responses: 25 respondents; 25 responses.

Estimated Time per Response: 101 hours.

Obligation to Respond: Required to obtain or maintain benefits.

Frequency of Response: Annual.

Total Annual Burden: 2,525 hours.

Total Annual Cost: $108,750.

Privacy Impact Assessment: No impacts.

Nature and Extent of Confidentiality: The Commission anticipates providing confidential treatment for proprietary information submitted by ICS providers. Parties that comply with the terms of a protective order for the proceeding will have an opportunity to comment on the data. The Commission is not requesting respondents to submit confidential information to the Commission. However, respondents may request materials or information submitted to the Commission be withheld from public inspection under 47 CFR Section 0.459 of the FCC's rules.

Needs and Uses: Section 201 of the Communications Act of 1934, (“Act”) as amended, 47 U.S.C. 201, requires that inmate calling service (ICS) providers' rates and practices be just and reasonable. Section 276 of the Act, 47 U.S.C. 276, requires that payphone service providers (including those that serve correctional institutions such as ICS providers) be fairly compensated. The Commission's Order in Rates for Interstate Inmate Calling Services, WC Docket No. 12-375, FCC 13-113, required that all ICS providers annually certify their compliance with the Order and be accompanied by data regarding their ICS rates and minutes of use by correctional facility they serve. The annual certification requirement will enable the Commission to monitor ICS providers' rates to ensure they comply with the provisions of the Order and therefore ensure they are just, reasonable and fair as required by Sections 201 and 276. It will also enable consumers and other affected parties to monitor ICS rates and file complaints in a timely fashion.

Federal Communications Commission.
Gloria J. Miles,
Federal Register Liaison, Office of the Secretary, Office of Managing Director.

[FR Doc. 2014-00710 Filed 1-15-14; 8:45 am]

BILLING CODE 6712-01-P